POSTAL SERVICE

39 CFR Part 20

International Mail Manual; Incorporation by Reference

AGENCY: Postal Service.

ACTION: Final rule.

SUMMARY: The Postal Service announces the issuance of Issue 31 of the International Mail Manual (IMM), and its incorporation by reference in the Code of Federal Regulations.

EFFECTIVE DATE: This final rule is effective on November 23, 2005. The incorporation by reference of Issue 31 of the IMM is approved by the Director of the Federal Register as of November 23, 2005.

FOR FURTHER INFORMATION CONTACT: Obataiye B. Akinwole, (202) 268-7262.

SUPPLEMENTARY INFORMATION: Issue 31 of the International Mail Manual was issued on May 31, 2005. It replaced the previous issue of the IMM, and contained all IMM revisions from August 5, 2004 through May 12, 2005.

The International Mail Manual is available to the public on a subscription basis only from: New Orders, Superintendent of Documents, P.O. Box 371954, Pittsburgh, PA 15250-7954. The subscription price for one issue is currently $36 to addresses in the United States, and $50.40 to all foreign addresses. The IMM is also published and available to all users on the Internet at http://pe.usps.gov.

List of Subjects in 39 CFR Part 20

Foreign relations; Incorporation by reference.

In view of the considerations discussed above, the Postal Service hereby amends 39 CFR Part 20 as follows:

PART 20—INTERNATIONAL POSTAL SERVICE

1. The authority citation for part 20 continues to read as follows:

Authority: 5 U.S.C. 552(a); 39 U.S.C. 401, 404, 407, 408.

2. Sections 20.1 and 20.2 are revised to read as follows:

§ 20.1 International Mail Manual; incorporation by reference.

(a) Section 552(a) of Title 5, U.S.C., relating to the public information requirements of the Administrative Procedure Act, provides in pertinent part that “* * * matter reasonably available to the class of persons affected thereby is deemed published in the Federal Register when incorporated by reference therein with the approval of the Director of the Federal Register.” In conformity with that provision, with 39 U.S.C. section 410(b)(1), and as provided in this part, the U.S. Postal Service hereby incorporates by reference its International Mail Manual (IMM), Issue 31, dated May 31, 2005. The Director of the Federal Register approves this incorporation by reference in accordance with 5 U.S.C. 552(a) and 1 CFR part 51.

(b) The current Issue of the IMM is incorporated by reference in paragraph (a) of this section. Successive Issues of the IMM are listed in the following table:

International Mail Manual | Date of issuance
Issue 1 | November 13, 1981.
Issue 2 | March 1, 1983.
Issue 3 | July 4, 1985.
Issue 4 | September 18, 1986.
Issue 5 | April 21, 1988.
Issue 6 | October 5, 1988.
Issue 7 | July 20, 1989.
Issue 8 | June 28, 1990.
Issue 9 | February 3, 1991.
Issue 10 | June 25, 1992.
Issue 11 | December 24, 1992.
Issue 12 | July 8, 1993.
Issue 13 | February 3, 1994.
Issue 14 | August 4, 1994.
Issue 15 | July 9, 1995.
Issue 16 | January 4, 1996.
Issue 17 | September 12, 1996.
Issue 18 | June 9, 1997.
Issue 19 | October 9, 1997.
Issue 20 | July 2, 1998.
Issue 21 | May 3, 1999.
Issue 22 | January 1, 2000.
Issue 23 | July 1, 2000.
Issue 24 | January 1, 2001.
Issue 25 | July 1, 2001.
Issue 26 | January 1, 2002.
Issue 27 | June 30, 2002.
Issue 28 | January 1, 2003.
Issue 29 | July 1, 2003.
Issue 30 | August 1, 2004.
Issue 31 | May 31, 2005.

§ 20.2 Effective date of the International Mail Manual.

The provisions of the International Mail Manual Issue 31, effective May 31, 2005 are applicable with respect to the international mail services of the Postal Service.

Neva R. Watson,
Attorney, Legislative.

[FR Doc. 05-23171 Filed 11-22-05; 8:45 am]

BILLING CODE 7710-12-P